FEDERAL MARITIME COMMISSION

[Petition No. P1-15]

Petition of Compania Sud American De Vapores, S.A. for an Exemption From Commission Regulations; Notice of Filing and Request for Comments

This is to provide notice of filing and to invite comments on or before February 18, 2015, with regard to the Petition described below.

Compania Sud American de Vapores, S.A. (“CSAV”) (Petitioner), has petitioned the Commission pursuant to 46 CFR 502.76 of the Commission's Rules of Practice and Procedure, for an exemption from the Commission's rules requiring individual service contract amendments, 46 CFR 530.10. Specifically, Petitioner explains that “CSAV transferred the assets and operations comprising its container shipping operation to its wholly-owned subsidiary Norasia Container Lines Limited” and, as such, requests that the Commission permit the submission of a “universal notice to the Commission and to all affective service contract parties in lieu of requiring individual filings reflecting amendment by mutual agreement to remove CSAV as a party.” Petitioner separately commits to provide each service contract shipper counter-party with electronic notice of this corporate change and instructions on how to request preparation of a “formal consent” should one be required.

The Petition in its entirety will be posted on the Commission's Web site at http://www.fmc.gov/p1-15. Comments filed in response to this Petition also will be posted on the Commission's Web site at this location.

In order for the Commission to make a thorough evaluation of the Petition, interested persons are requested to submit views or arguments in reply to the Petition no later than February 18, 2015. Commenters must send an original and 5 copies to the Secretary, Federal Maritime Commission, 800 North Capitol Street NW., Washington, DC 20573-0001, and be served on Petitioner's counsel, Walter H. Lion, McLaughlin & Stern, LLP, 260 Madison Avenue, New York, NY 10016. A PDF copy of the reply must also be sent as an attachment to Secretary@fmc.gov.

Karen V. Gregory,
Secretary.

[FR Doc. 2015-02396 Filed 2-5-15; 8:45 am]

BILLING CODE 6730-01-P